FEDERAL COMMUNICATIONS COMMISSION

47 CFR Parts 1 and 4

[GN Docket 15-206, FCC 16-81, FCC 19-138; FRS 21073]

Improving Outage Reporting for Submarine Cables and Enhanced Submarine Cable Outage Data

AGENCY: Federal Communications Commission.

ACTION: Final rule and announcement of compliance date.

SUMMARY: In this document, the Commission announces that the Office of Management and Budget (OMB) has approved a new information collection associated with rules governing submarine cable outage reporting requirements in the 2016 Report and Order, FCC 16-81, as modified in the 2019 Order on Reconsideration, FCC 19-138, in GN Docket No. 15-206. The Commission also announces that compliance with the rules will be required six months after the date of this notice. This notice is consistent with the 2016 Report and Order and the 2019 Order on Reconsideration, which state that the Commission will publish a document in the Federal Register announcing a compliance date for the rule section mandating submarine cable outage reporting requirements.

DATES:

Effective date: This rule is effective October 28, 2021.

Compliance date: Compliance with the amendments to 47 CFR 4.1 and 4.15, published at 81 FR 52354 on August 8, 2016, and 85 FR 15733 on March 19, 2020, respectively, is required as of October 28, 2021.

FOR FURTHER INFORMATION CONTACT: Scott Cinnamon at (202) 418-2319 or scott.cinnamon@fcc.gov or Charlene C. Goldfield at (202) 418-1372 or charlene.goldfield@fcc.gov, Attorney-Advisors of the Public Safety and Homeland Security Bureau, Cybersecurity and Communications Reliability Division.

SUPPLEMENTARY INFORMATION: This document announces that OMB approved the information collection requirement in § 4.15 on March 25, 2021.

The Commission publishes this document to announce the compliance date of the rule. If you have any comments on the burden estimates listed below, or how the Commission can improve the collections and reduce any burdens caused thereby, please contact Nicole Ongele, Federal Communications Commission, Room 3.310, 45 L Street NE, Washington, DC 20554, regarding OMB Control Number 3060-1283. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on March 25, 2021, for the information collection requirements contained in § 4.15 of its rules. Under 5 CFR part 1320, an agency may not conduct or sponsor a collection of information unless it displays a current, valid OMB Control Number. No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1283.

OMB Approval Date: March 25, 2021.

OMB Expiration Date: March 31, 2024.

Title: Improving Outage Reporting for Submarine Cables and Enhanced Submarine Cable Outage Data.

Form Number: N/A.

Respondents: Business or other for-profit entities.

Number of Respondents and Responses: 74 respondents; 336 responses.

Estimated Time per Response: 6 hours.

Frequency of Response: On occasion reporting requirement.

Obligation to Respond: Mandatory. Statutory authority for these collections is contained in 47 U.S.C. 34-39, 151, 154, 155, 157, 201, 251, 254, 301, 303(b), 303(g), 303(r), 307, 309(a), 309(j), 316, 332, 403, 615a-1, 615c, 1302(a), and 1302(b); 5 U.S.C. 301, and Executive Order no. 10530.

Total Annual Burden: 2,016 hours.

Total Annual Cost: No Cost.

Privacy Impact Assessment: No impact(s).

Nature and Extent of Confidentiality: These outage reports filed with the Commission pursuant to part 4 are presumed confidential. The information in these filings may be shared with the Department of Homeland Security only under appropriate confidential disclosure protections. Other persons seeking disclosure must follow the procedures delineated in 47 CFR 0.457 and 0.459 of the Commission's rules for requests for and disclosure of information. The Commission recently adopted rule revisions, scheduled to take effect on September 30, 2022, that would expand this sharing to participating agencies of the 50 states, the District of Columbia, tribal nations, territories, and other agencies of federal government that have official duties that make them directly responsible for emergency management and first responder support functions. See In the Matter of Amendments to Part 4 of the Commission's Rules Concerning Disruptions to Communications, Second Report and Order, FCC 21-34 (2021).

Needs and Uses: This information collection pertains to a Report and Order adopted by the Commission in 2016 and modified in part by an Order on Reconsideration adopted by the Commission in 2019. The Report and Order adopted final rules requiring submarine cable licensees to report service outages through the network outage reporting system (NORS). The Order on Reconsideration modified the Report and Order by reexamining and amending certain aspects of the required reporting to better conform the requirements to how the Commission expects to use the outage information. Specifically, these licensees will need to report specific unplanned outages greater than 30 minutes on a portion of the cable system between submarine line terminal equipment (SLTE) or greater than four hours when it affects a fiber pair.

Submarine cables are the conduit for the vast majority of voice, data, and internet connectivity between the mainland United States and Alaska, Hawaii, Guam, American Samoa, the Northern Mariana Islands, Puerto Rico, and the U.S. Virgin Islands, as well as the connectivity between the United States and the rest of the world. Accordingly, the operation and maintenance of the undersea cables licensed in the United States are essential to the nation's economic stability, national security and other vital public interests. As with other information collection using NORS (under OMB Control No. 3060-0484), this newly approved collection will facilitate FCC monitoring, analysis, and investigation of the reliability and security of submarine cable networks, and to identify and take action on potential threats to our Nation's telecommunications infrastructure.

Lists of Subjects in 47 CFR Part 4

Submarine Cable Outage.

Federal Communications Commission.
Marlene Dortch,
Secretary.

Final Rules

For the reasons discussed in the preamble, the Federal Communications Commission amends 47 CFR part 4 as follows.

PART 4—DISRUPTIONS TO COMMUNICATIONS

1. The authority citation for part 4 continues to read as follows:

Authority: 47 U.S.C. 34-39, 151, 154, 155, 157, 201, 251, 307, 316, 615a-1, 1302(a) and 1302(b); 5 U.S.C. 301 and Executive Order no. 10530.

§ 4.15 [Amended]

2. Amend § 4.15 by removing paragraph (d).

[FR Doc. 2021-08651 Filed 4-27-21; 8:45 am]

BILLING CODE 6712-01-P